DEPARTMENT OF ENERGY

Federal Energy Regulatory Commission

Notice of Application for Non-Project Use of Project Lands and Waters and Soliciting Comments, Motions to Intervene, and Protests

December 14, 2006.

Take notice that the following application has been filed with the Commission and is available for public inspection:

a. Application Type: Non-Project Use of Project Lands and Waters.

b. Project No: 271-102.

c. Date Filed: November 28, 2006.

d. Applicant: Entergy Arkansas, Inc.

e. Name of Project: Carpenter-Remmel Hydroelectric Project.

f. Location: Ouachita River in Garland County, Arkansas. This project does not occupy any Federal or tribal lands.

g. Filed Pursuant to: Federal Power Act, 16 U.S.C. 791(a)-825(r).

h. Applicant Contact: Mr. Blake Hogue, Hydro Operations, Entergy Arkansas, Inc., 141 West County Line Road, Malvern, AR 72104; (501) 844-2197.

i. FERC Contacts: Any questions on this notice should be addressed to Ms. Shana High at (202) 502-8674.

j. Deadline for filing comments and or motions: January 16, 2007.

All documents (original and eight copies) should be filed with: Ms. Magalie R. Salas, Secretary, Federal Energy Regulatory Commission, 888 First Street, NE., Washington DC 20426. Please include the project number (P-271-102) on any comments or motions filed. Comments, protests, and interventions may be filed electronically via the Internet in lieu of paper. See, 18 CFR 385.2001(a)(1)(iii) and the instructions on the Commission's Web site under the e-Filing link. The Commission strongly encourages e-filings.

k. Description of Proposal: Entergy Arkansas, Inc. is requesting Commission authorization for the construction of ten boat storage slips, four fueling slips, and a new four slip fuel dispenser to expand the existing Hot Springs Marina. The existing and expanded facilities would consist of a six-foot by 280-foot boardwalk, three multi-slip storage docks with a total of 56 slips, an off-season fueling pier, the existing boat ramp, and a four slip fuel dock for use during the peak season. The 56 slips consist of 42 existing slips, four previously approved (but not constructed slips), and the ten slip expansion. The expansion would result in a total of five fuel dispensers.

l. Location of the Applications: The filings are available for review at the Commission in the Public Reference Room, located at 888 First Street, NE., Room 2A, Washington, DC 20426, or may be viewed on the Commission's Web site at http://www.ferc.gov using the “eLibrary” link. Enter the docket number excluding the last three digits in the docket number field to access the document. For assistance, please call the Helpline at (866) 208-3676 or contact FERCOnLineSupport@ferc.gov. For TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, State, and local agencies are invited to file comments on the described applications. A copy of the applications may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-21697 Filed 12-19-06; 8:45 am]

BILLING CODE 6717-01-P